DEPARTMENT OF LABOR

Office of the Secretary of Labor

Notice of Updates to the Department of Labor's List of Goods Produced by Child Labor or Forced Labor Required by the Trafficking Victims Protection Reauthorization Act of 2005

AGENCY: Bureau of International Labor Affairs, Labor.

ACTION: Notice of Updates.

SUMMARY: This notice removes 3 items from the “List of Goods Produced by Child Labor or Forced Labor” (List), produced in accordance with the Trafficking Victims Protection Reauthorization Act (TVPRA) of 2005. These updates amend the fourth edition of the List, published on September 26, 2012. With these updates, the List includes 134 goods from 73 countries, and total of 342 line items. The primary purposes of the List are to raise public awareness about the incidence of child labor and forced labor in the production of goods in the countries listed and to promote efforts to eliminate such practices.

FOR FURTHER INFORMATION CONTACT: Director, Office of Child Labor, Forced Labor, and Human Trafficking, Bureau of International Labor Affairs, U.S. Department of Labor at (202) 693-4843 (this is not a toll-free number).

SUPPLEMENTARY INFORMATION:

I. Updates to the List of Goods

The Bureau of International Labor Affairs (ILAB) hereby announces the removal of tobacco from Kazakhstan, charcoal from Namibia, and diamonds from Zimbabwe from the List, produced in accordance with the TVPRA of 2005. These updates amend the fourth edition of the List, published on September 26, 2012. With these updates, the List includes 134 goods from 73 countries, and total of 342 line items.

Section 105(b) of the TVPRA of 2005 mandated that ILAB develop and publish a list of goods from countries that ILAB “has reason to believe are produced with child labor or forced labor in violation of international standards.” (22 U.S.C. 7112(b)(2).) ILAB's Office of Child Labor, Forced Labor, and Human Trafficking carries out this mandate. ILAB published the initial List on September 10, 2009, and has since published annual updates. Until this year, the annual updates have taken the form of a full report which includes a discussion of the List's context, scope, methodology, and limitations. In 2013, ILAB has chosen to publish a limited number of updates via this notice. This is in accordance with amendments made to the TVPRA by the Violence Against Women Reauthorization Act of 2013, which mandated that ILAB publish the List every two years beginning no later than December 1, 2014. (Public Law 113-4.) ILAB will publish a full, updated TVPRA report in 2014.

The primary purposes of the List are to raise public awareness about the incidence of child labor and forced labor in the production of goods in the countries listed and to promote efforts to eliminate such practices. Further information about the List, including the updated List, past years' TVPRA reports, Frequently Asked Questions, and a bibliography of sources, are available on the ILAB Web site at: http://www.dol.gov/ilab/programs/ocft/tvpra.htm.

II. Methodology for Removal of Goods From the List

Foreign governments, industry groups, individual companies and other stakeholders frequently inquire about the process for removing a good from the List. According to ILAB's “Procedural Guidelines for the Development and Maintenance of the List of Goods From Countries Produced by Child Labor or Forced Labor” (Procedural Guidelines), published in the Federal Register on December 27, 2007, ILAB must have reason to believe that a problem of child or forced labor is “significantly reduc[ed] if not eliminate[ed]” from the production of the particular good in the country in question for it to be removed. (72 FR 73374, 73377.) The guidelines indicate that a forced or child labor problem at “a single company or facility” or in “an isolated incident” “will not weigh in favor of a finding that a good is produced in violation of international standards.” (Id.) Similarly, when ILAB has reason to believe that a child or forced labor problem with respect to a listed good has been eliminated or reduced to a single company or facility or to an isolated incident, the threshold for removal would be met.

The Procedural Guidelines also provide a process by which the public may submit comments relating to any good on the List. ILAB has received over 100 such comments, or submissions, available on the Internet at: http://www.dol.gov/ilab/programs/ocft/tvprasubmissions.htm. Many submissions have contended that a good should be removed from the List but have not provided sufficient evidence that the problem of child or forced labor has been significantly reduced or eliminated.

In the 2012-2013 research period, ILAB staff reviewed four items currently on the List to determine whether there was a reason to believe that there had been a significant reduction or elimination of a problem of child labor and/or forced labor. These items were: tobacco from Kazakhstan, diamonds from Zimbabwe, charcoal from Namibia, and salt from Cambodia. ILAB reached a determination on three of these items, as discussed below, and continues to conduct research on the fourth item, salt from Cambodia.

ILAB's research included desk research, in-person and telephone interviews with key informants, and when possible, travel to the relevant countries to conduct in-person interviews and site visits. In some cases, research was carried out in coordination with U.S. Government colleagues from other agencies, grantees and/or contractors. These three cases are discussed more fully below.

Due to limited resources, ILAB was not able to research in depth all the goods currently on the List that presented a possible case for removal from the List, but we continue to research potential removals on an ongoing basis. In identifying the particular cases on which to focus ILAB research, we prioritize those for which a credible argument for removal has been brought to our attention by foreign governments, industry groups or U.S. Government colleagues from other agencies, or other stakeholders.

III. Discussion of Goods and Countries Removed

A. Research on Child Labor and Forced Labor in Tobacco Production in Kazakhstan

In 2009, ILAB placed tobacco from Kazakhstan on the TVPRA List based on sources dating from 2003-2008. These sources indicated that children—both Kazakh children and children of migrant families—worked in a variety of tobacco-related activities, including performing strenuous, labor-intensive tasks. The sources also indicated that adult migrant laborers faced passport confiscation, coercive recruitment, induced indebtedness, and other forced labor-related practices. That same year, Philip Morris Kazakhstan (PMK), the sole buyer of tobacco in Kazakhstan, began to roll out its Agricultural Labor Practices program, developed in consultation with the non-governmental organization (NGO) Verité and the International Labor Organization. The program includes comprehensive monitoring of labor practices on all tobacco farms in Kazakhstan, including child labor and forced labor. Along with this monitoring, PMK and its local NGO partners have carried out efforts to educate agricultural workers and families about their rights, available grievance mechanisms, and alternatives to child labor; and the Government of Kazakhstan has carried out enforcement actions in areas where child labor is suspected. At the same time as these efforts have taken place, the size of the tobacco sector has declined steeply. In 2011, ILAB began to receive reports that child and forced labor were no longer present in the country's relatively few remaining tobacco farms.

Following up on these reports, ILAB carried out research in 2012 and 2013 to understand current labor conditions in the sector, analyze efforts on the part of various stakeholders to combat child labor and forced labor, and determine whether child labor and/or forced labor remain significant problems in the sector. ILAB carried out a qualitative assessment that included a desk review, field research to Kazakhstan for key informant interviews, and follow-up interviews with other key informants. In all, 6 documents were analyzed and 17 interviews were conducted.

Informants confirmed that the size of the industry had decreased from over 300 farms in 2010 to 74 farms in 2013. With the reduction in the number of farms and land used for tobacco production, the use of migrant labor has also declined. During the 2012 peak season, only 140 migrants worked on tobacco farms in Kazakhstan. Informants—including government officials and NGO representatives- confirmed that the PMK monitoring system is comprehensive and credible, and that NGO efforts have been highly effective in educating agricultural workers about their rights, available grievance mechanisms, and educational opportunities as alternatives to child labor. Since its inception in 2009, the comprehensive monitoring system has not identified any cases of forced labor, and informants confirmed that previous forced labor-related practices have been abolished. A minority of ILAB's informants stated that child labor may still occur in rare cases, but fewer than 200 children (native Kazakh and migrant) currently live on tobacco farms, and the comprehensive monitoring system in place in the sector identified only one child working in 2012.

ILAB has concluded that child labor in Kazakhstan's tobacco sector has been significantly reduced. In addition, there has been no evidence of forced labor in Kazakhstan's tobacco sector in recent years, and ILAB's research suggests the practice has been virtually eliminated. If a case of child labor or forced labor were found in the sector, there are mechanisms in place to address the situation in an appropriate manner. As a result, ILAB is removing tobacco from Kazakhstan from the List.

B. Research on Child Labor in Charcoal Production in Namibia

In response to a U.S. Embassy request to research whether or not child labor in the production of charcoal existed in more than an isolated incident, in early 2013 ILAB staff conducted follow-up qualitative research to determine the current situation of child labor in the Namibian charcoal industry. The research included a desk review of documentation and in-country field research, which included key informant interviews and site visits.

The key informant interviews in Namibia consisted of interviews with a total of 30 informants, interviewed individually and in groups, including government officials at the national and regional levels, charcoal producers, former chairmen of the Namibian Charcoal Producers' Association, workers and employers' associations, international organizations, and NGOs. In total, 14 organizations were interviewed. Site visits were conducted to two charcoal producing farms in Otjozondjupa Region, one in Grootfontein and the other in Otjiwarango. The interviews and site visits conducted by ILAB staff in Namibia validated that there is “no significant incidence of child labor or forced labor” in the production of charcoal, and, after considering the factors in the Procedural Guidelines, ILAB determined that it no longer has “reason to believe” that the use of child labor in charcoal production in Namibia is more than isolated. Thus, ILAB is removing Namibian charcoal from the List.

C. Research on Child Labor in Diamond Production in Zimbabwe

In 2006, diamonds were discovered in the Marange region of southeastern Zimbabwe, precipitating a rush to the area by artisanal miners. Based on sources documenting worst forms of child labor in artisanal mining from 2006-2008—including working long hours, carrying heavy loads, and deprivation of food and water—ILAB added diamonds from Zimbabwe to the List.

However, beginning in October 2008, the Government of Zimbabwe cracked down on artisanal mining, and in 2010 began awarding concessions to private companies to mine diamonds. According to reports from 2011 onward, the little artisanal mining that remained was carried out mostly by informal mining syndicates involving the government's security forces and private security guards, and did not involve children.

Following up on these reports, ILAB carried out research in 2012 and 2013 to understand the current labor conditions in Zimbabwe's diamond sector, analyze the factors that may have affected changes in the sector, and determine whether child labor had been significantly reduced or eliminated. ILAB carried out a qualitative assessment that included a desk review, field research to Zimbabwe for key informant interviews, and follow-up interviews with other key informants. In all, 17 documents were analyzed and 24 interviews were conducted. Interviewees included government officials, workers' associations, international organizations, NGOs, and members of the Kimberley Process, a joint government, industry and civil society initiative to stem worldwide flows of rough diamonds used by rebel movements to finance wars against legitimate governments. Informants reported that artisanal mining was virtually non-existent in Marange. In the concessioned areas, Kimberley Process monitors who had visited the mines had seen no child labor, and other informants felt that child labor was extremely unlikely, in part due to the more formal hiring processes in place in the privately-run mines.

ILAB concluded that the change in the diamond industry from informal artisanal mining to tightly-controlled concessioned mines has caused a significant reduction in child labor. Accordingly, ILAB is now removing diamonds from Zimbabwe from the List. This determination was based solely on ILAB's criteria for removal from the List, which do not include consideration of other human rights abuses in Zimbabwe's diamond sector that have been reported by other U.S. Government agencies, such as murder, torture, and other cruel, inhuman, or degrading treatment or punishment.

Signed at Washington, DC, this 17th day of September, 2013.
Carol Pier,
Acting Deputy Undersecretary, Bureau of International Labor Affairs.

[FR Doc. 2013-23223 Filed 9-30-13; 8:45 am]

BILLING CODE 4510-28-P